COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden.

DATES: Comments must be submitted on or before March 30, 2000.

FOR FURTHER INFORMATION OR A COPY CONTACT: Barbara Gold, Division of Trading and Markets, CFTC, (202) 418-5450; FAX: (202) 418-5455; email: bgold@cftc.gov and refer to OMB Control No. 3038-0005.

SUPPLEMENTARY INFORMATION: Title: Rules Relating to the Operations and Activities of Commodity Pool Operators and Commodity Trading Advisors and to Monthly Reporting by Futures Commission Merchants (OMB Control No. 3038-0005). This is a request for revision of a currently approved information collection.

Abstract: Existing Rule 4.7 provides exemptive relief from the disclosure, reporting and recordkeeping requirements applicable to registered commodity pool operators (CPOs) and commodity trading advisors (CTAs) with respect to pools and accounts owned solely by qualified eligible participants (QEPs) and qualified eligible clients (QECs), respectively. The relief that is provided reduces the regulatory requirements that apply to registered CPOs and CTAs. The proposed amendments to Rule 4.7 would expand this relief by bringing within the QEP and QEC definitions persons not included in the existing rules. Thus, the proposed amendments, if adopted, would further reduce the regulatory burdens on registered CPOs and CTAs.

An agency may not conduct or sponsor, and a person is not required to respond to, a collection of information unless it displays a currently valid OMB control number. The OMB control numbers for the CFTC's regulations were published on December 30, 1981. See 46 FR 63035 (Dec. 30, 1981).

Burden statement: The respondent burden for this collection is estimated to average 7.25 hours per response. These estimates include the time needed to review instructions; develop, acquire, install, and utilize technology and systems for the purposes of collecting, validating, and verifying information, processing and maintaining information and disclosing and providing information; adjust the existing ways to comply with any previously applicable instructions and requirements; train personnel to be able to respond to a collection of information; and transmit or otherwise disclose the information.

Respondents/Affected Entities: Commodity Pool Operators, Commodity Trading Advisors, Futures Commission Merchants.

Estimated number of respondents: 7,362.

Estimated total annual burden on respondents: 100,018 hours.

Frequency of collection: On occasion, quarterly, monthly, annually.

Send comments regarding the burden estimated or any other aspect of the information collection, including suggestions for reducing the burden, to the addresses listed below. Please refer to OMB Control No. 3038-0005 in any correspondence.

Barbara Gold, Division of Trading and Markets, U.S. Commodity Futures Trading Commission, 1155 21st Street, NW, Washington, DC 20581 and Office of Information and Regulatory Affairs, Office of Management and Budget, Attention: Desk Officer for CFTC, 725 17th Street, Washington, DC 20503.

Dated: February 23, 2000.
Jean A. Webb,
Secretary of the Commission.

[FR Doc. 00-4727 Filed 2-28-00; 8:45 am]

BILLING CODE 6351-01-M